NATIONAL AERONAUTICS AND SPACE ADMINISTRATION

[Notice 03-139]

Government-Owned Inventions, Available for Licensing

AGENCY: National Aeronautics and Space Administration.

ACTION: Notice of availability of inventions for licensing.

SUMMARY: The inventions listed below are assigned to the National Aeronautics and Space Administration, have been filed in the United States Patent and Trademark office, and are available for licensing.

DATES: November 4, 2003.

FOR FURTHER INFORMATION CONTACT: Linda Blackburn, Patent Counsel, Langley Research Center, Mail Code 212, Hampton, VA 23681-2199; telephone (757) 864-9260; fax (757) 864-9190.

NASA Case No. LAR-15816-2: Piezoelectric Composite Apparatus and a Method for Fabricating the Same;

NASA Case No. LAR-16432-1: Synthesis of Carbon Nanotubes Using High Average Power Ultrafast Laser Ablation;

NASA Case No. LAR-16091-1: Optically Stimulated Electron Emission Contamination Monitor and Method;

NASA Case No. LAR-16516-1: Tributary Analysis Monitoring System.

Dated: October 29, 2003.
Robert M. Stephens,
Deputy General Counsel.

[FR Doc. 03-27682 Filed 11-3-03; 8:45 am]

BILLING CODE 7510-01-P